FEDERAL COMMUNICATIONS COMMISSION

47 CFR Part 73

[DA 02-486; MM Docket No. 01-137; RM-10156]

Radio Broadcasting Services; Altus, OK

AGENCY: Federal Communications Commission.

ACTION: Proposed rule; dismissal.

SUMMARY: The Commission, at the request of Katherine Pyeatt, dismisses the petition proposing the allotment of Channel 295C2 at Altus, Oklahoma, as the community's third local FM transmission service. See 66 FR 35768, July 9, 2001. A showing of continuing interest is required before a channel will be allotted. It is the Commission's policy to refrain from making an allotment to a community absent an expression of interest.

FOR FURTHER INFORMATION CONTACT: Sharon P. McDonald, Mass Media Bureau, (202) 418-2180.

SUPPLEMENTARY INFORMATION: This is a synopsis of the Commission's Report and Order, MM Docket No. 01-137 adopted February 20, 2002 , and released March 1, 2002. The full text of this Commission decision is available for inspection and copying during normal business hours in the FCC Reference Information Center (Room CY-A257), 445 12th Street, SW, Washington, DC. The complete text of this decision may also be purchased from the Commission's copy contractors, International Transcription Service, Inc., (202) 857-3800, 1231 20th Street, NW., Washington, DC 20036.

Federal Communications Commission.
John A. Karousos,
Chief, Allocations Branch, Policy and Rules Division, Mass Media Bureau.

[FR Doc. 02-6371 Filed 3-15-02; 8:45 am]

BILLING CODE 6712-01-U